DEPARTMENT OF TRANSPORTATION

Federal Aviation Administration

Aircraft Certification Service Organizational Changes

AGENCY: Federal Aviation Administration (FAA), DOT.

ACTION: Notice.

SUMMARY: This notice informs the American public and aviation industry of organizational changes in the Aircraft Certification Service (AIR) of the FAA Aviation Safety Office (AVS). AIR is eliminating product directorates, and will be composed of six functional divisions: The Organizational Performance Division (AIR-300), the International Division (AIR-400), the Policy and Innovation Division (AIR-600), the Compliance and Airworthiness Division (AIR-700), the System Oversight Division (AIR-800) and the Enterprise Operations Division (AIR-900).

FOR FURTHER INFORMATION CONTACT: The Organizational Performance Division (AIR-300), Aircraft Certification Service, Federal Aviation Administration, 1200 District Avenue, Burlington, MA 01803; telephone (781) 238-7101; email 9-AVS-AIR300@faa.gov.

SUPPLEMENTARY INFORMATION: AIR is transitioning to a functionally aligned organizational structure on July 23, 2017. AIR's functional realignment will establish an infrastructure that will enable a comprehensive approach to becoming more efficient and effective known as “AIR Transformation.” As a result of realignment, all product directorates will be eliminated and replaced with functional divisions. Field offices will be realigned under new routing codes, but will stay intact and continue to provide the public the same service they do today. For further details on this reorganization, please refer to http://www.faa.gov/about/office_org/headquarters_offices/avs/offices/air/transformation/ and https://www.faa.gov/news/fact_sheets/news_story.cfm?newsId=21315.

You can obtain more information on the new AIR organization and the responsibilities and functions of the AIR divisions in FAA Order 8100.5C, “Aircraft Certification Service—Organizational Structure and Functions.” AIR also created a new order, FAA Order 8100.18, “Aircraft Certification Service Organizational Realignment References,” to facilitate the use of existing AIR policy and guidance under the functionally aligned organization. These orders are available online at https://www.faa.gov/regulations_policies/orders_notices/. All AIR-issued advisory circulars, orders, notices, and other guidance will remain in effect until revised, changed, or deleted.

Dorenda D. Baker,
Executive Director, Aircraft Certification Service.

[FR Doc. 2017-15573 Filed 7-24-17; 8:45 am]

BILLING CODE 4910-13-P